DEPARTMENT OF THE INTERIOR

Bureau of Land Management

[ID-070-2824-JW PJ08]

Notice of Public Meeting, Upper Snake River Resource Advisory Council—Change of Location

AGENCY: Bureau of Land Management, Interior.

ACTION: Notice of public meeting, change of location.

SUMMARY: A Federal Register Notice (FR vol. 69, No. 148, page 46558) announcing the next Resource Advisory Council Meeting for the Upper Snake River District mistakenly listed the address for the September 8, 2004 meeting as Burley, Idaho. The correct location for the meeting is the BLM Upper Snake River District Office, 1405 Hollipark Drive, Idaho Falls, Idaho. All other information in the previous notice is correct.

FOR FURTHER INFORMATION CONTACT: David Howell, RAC Coordinator, Upper Snake River District, 1405 Hollipark Dr., Idaho Falls, ID 83401. Telephone (208) 524-7559.

Dated: August 24, 2004.
David O. Howell,
RAC Coordinator.

[FR Doc. 04-19706 Filed 8-27-04; 8:45 am]

BILLING CODE 4310-GG-P